DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2015. For purposes of this listing, long-term residents, as defined in section 877(e)(2), are treated as if they were citizens of the United States who lost citizenship.

Last name | First name | Middle name/initials
AARSHEIM | BRUCE | OLAF
ABDI | JENNIFER | ANDREA
ABELL | HELEN | ANNE
ABT | CASSANDRA | NICOLE
ACKERMAN | ANNETTE
ADAMS | GARY | MARCUS
ADAMS | MATTHEW | WEBSTER
AEBERSOLD | RUDOLF | HONS
AESCHBACHER-OFNER | PIA | MARGARITA
AGARWAL | ANDREA | RAKHI
AHN | SEJOONG
AINEMER | LORI
AINTABI | ERIC
AINTABI | STEPHANIE
AL-ABOOD | MAHMOUD | SHAKER
ALBERS | DANIEL | KEITH
ALBISSER | MIRIAM | ESTHER
ALICOT | VERONIQUE | JEANNE
ALLAIRE | PIERRE
ALLAN | MATTHEW | JARRAD
ALLARD | FELIPE | SOTO
ALLARIE | ERIN | LYNNE
ALLEN | BRIAN | JOHN
ALLEN | DENISE | ANN
ALLUE | IONA | BARBARA
ALSTAD | MELANIE | MARIE TIESSEN
ALTAN | TUNC
ALTEMEYER | MARTHA | JEAN
ALTEMEYER | ROBERT | ANTHONY
AMSTUTZ | STEPHANIE
AN | CHON | JUN
ANDENMATTEN | ROBERT | WILLIAM
ANDEREGG | GEORGIA | LYONS
ANDERSON | BROCK | MATTHEW
ANDERSON | COLIN | PATRICK
ANDERSON | SUSAN | LEE
ANDINA | NICOLA | DANIELE
ANDREWS | DIANA | MARIE
ANGEHRN | JESSICA | ANNA
ANGEHRN | RICHARD | JOHN
ANGIO | JOYCE | MARIE
ANGKASUWANSIRI | THITI
ANGUS | CATHERINE | LYNNE
ANTABI | TAREK | MALEK
APOSTOL | GEORGE
ARENDAL | BIRGITTE
ARIAS-FERNANDEZ | CARLOS | IGNACIO
ARIMOTO | RYUJI
ARINO | MONICA | K
ARKOVA | YELENA | S
ARNOLD | WILLIAM | LEON
ASFOUR | FOUAD | B
ASHKAR | CHRISTELLE
ATWOOD | DAVID | PAUL
AU | CHRIS
AUBE | JASON | LEE
AUBRY | CHRISTIAN | CHARLES ALEXIS
AUDET | CARL | JOSEPH
AUDET | MICHELLE | JOYCE
AUYANG | ERIC | YANCHI
AYASSE | ALAN | RICHARD
BAARMA | LAMA | SAMEER
BACHMANN | URS | CHRISTOPH
BAE | JIHYUN
BAILEY | ADRIAN | JOHN
BAIRD-STAMPFLI | ROBIN | ANNE
BALLESTEROS | CHERYLL | CRUZ
BALLHORN | BLAKELY | WILLIAM
BALLHORN | STUART | GORDON
BANU | LUANA | E
BARALLAT | LUIS
BARBLAN | CHRISTINA | PATRICIA
BARDE | ALAIN | ROBERT
BARIL | JENNY | DOBBIN
BARNES | MARJORY | WILSON
BARTLEY | CLARISSA | ELISABETH
BATTAGLIA | ELISABETTA | JANUARY
BATTESTI | CHRISTINE | DENISE
BATTESTINI | JEAN
BAUDHUIN | ALAIN | JEAN
BAUTZ | EKKEHARD | KARL FRIEDDRICH
BAXTER | EMILY | BEATRICE
BEAUREGARD | CATHERINE
BECK | ROBERTA | LYNN
BECKER | LUCAS | JUSTIN
BECKWITH | CHARLES | ALLEN
BECKWITH | THOMAS | GLENN
BEGHIN | ANNETTE | MARIE
BEHBEHANI | SALMAN | FOUAD
BEIJERBERGEN | MICHEL | G
BELANGER | YVON | JOSEPH PIERRE
BELL | MICHAEL
BELLEROSE | NICOLE | MORIN
BELMONT-HAUBRICH | ARIEL
BEMOUNT | STEPHEN | LOUIS
BENDER | BERTRAND | JAQUIER
BERG | ALLISON | LOUISA DENT NEMETH
BERG | JACLYN | LOUISE
BERG | NILS | HOLGER NEMETH
BERGER | DONALD | JOHN
BERGERON | NANCY | DIANE
BERNAL | LUCIO
BERTHOUD | OLIVIER | EMILE
BERTOLI | LAURENT | PIERRE
BESKOW | PAUL | BERNHARD
BESPALOV | GEORGES | ANDREEVITCH
BIDWELL | JANET | ELIZABETH
BIRCH | GEORGE | CHARLES WARD
BISCHOFBERGER | LUKAS | JOHN
BLAND | DWIGHT | VINCENT
BLUA | COSTANZA | ELENA
BLUMER | DANIEL | JACOB FRIDOLIN
BOELS | VALERIE | CORRINE JACQUELINE
BOGEN | DAVID | OLAV
BOIVIN | JENNIFER | MARIE
BOLAM | CHRISTOPHER
BOLLENDORFF-BAILEY | ELIZABETH | SUSAN
BONIN | ANNA | MAE
BONIN | JACK
BONNEAU | VINCENT | MAXIME OLIVER
BORGHINI | AMELIE
BOUCHARD | DENIS | PAUL
BOUCHARD | SHAWN | DEE
BOULANGER | MICHEL | JOSEPH
BOURGEOIS | ALEXIS | JASON
BOURGEOIS | JOACHIM | ISAAC
BOURLAND | KATHRYN | ELIZABETH
BOURQUIN | LUC | HENRI
BOWERBANK | ALEJANDRA
BOWMAN | DORIAN | ALLARD
BOYER | BRUCE | STANLEY
BOYLAN | EVAN | CARL
BRACKETT | KAREN | SUSAN
BREAULT | ELAINE | CHRISTINE
BRESSON | JEAN | JACQUES RENE
BREWIS | CAROL | JEAN
BRIGGS | KATHLEEN | ELLEN
BRODSKY | DAVID | ARTHUR
BRON | SYBIL | NATHALIE
BROOKS | VICTOR | HAROLD
BROWN | ANDREW | DAVID
BROWN | CHRISTOPHE | DONALD
BROWN | JAMES | VINCENT
BROWN | KATIA | LYNN
BROWN | NORMAN | FRANCIS GRAHAM
BRUCE | DAVID | NATHAN DOUGLASS
BRUNOLD | ADELHEID | HEIDY
BUCHANAN | KATHERINE | LYNN
BUHLER | ALOYS
BURGI | CHRISTINE | ELISA JENSEN
BURKHART | LEILA
BURWASH | JULIANNA | GRACE
BUXTORF | DOROTHY | JOYCE
BYRD | MARY | ANN
CADY | MELISSA | ELAINE
CALDWELL | FIONA | M
CALLAHAN III | CLINTON | COMINGS
CALMET-WOLF | EVA | CHRISTINE
CAMPBELL | SHERRYL | LYNN
CANDRIAN | JULIA | ELVINA
CANNINGS | KATHLEEN
CANOVAS-GUTIERREZ | VANESSA | ISABELLE JAEGER
CARBONNEAU | DIANE
CARLETTI | ROBERTO | ENRICO
CARLSON | EVELYN
CARLUY-MOWREY | SONJA | MARIE
CARNEWAL | PASCALE | ANN
CARRIERE | DELANEY | ARLETA JEAN
CARTER | EIGO | DAVID
CASH | JOANNE | ELIZABETH
CASTANEDA | BOBBI JO | WITTMIER
CATHOMAS | LINUS | XAVER
CAVANAUGH | SEAN | MICHAEL
CELESTE | ALVIN | DEL FIERRO
CERF | EVELYN | CHARLOTTE PECHER
CERUTTI | PETER | ADRIAN
CHAN | ALVIN | CHIT
CHAN | CYNTHIA | HONG ENG
CHAN | DAVID
CHAN | DAVID | CHUCK-YAN
CHAN | DIANE | MEI LAI
CHAN | ROCKY | YU
CHAN | SHANN | NICKOLEBY SIY
CHAN | WENDY | VICTORIA
CHAND | ASHWIN | PRAKASH
CHANG | PETER
CHANG | VICKY | CHIUNG WEN
CHANG | YI
CHARITOS | NORA
CHASE | DOUGLAS | ALLAN
CHASE | JUANITA | LOUISE
CHASE | KATHRYN | LEE
CHATELAIN | ADRIANA
CHAUVALLON | FRANK | GERARD PAUL
CHEDRAWY | ANTHONY | GEORGE
CHEKIJIAN | SAMUEL
CHEN | HUANG | FENG-CHU
CHEN | JERRY | TSE-YU
CHEN | JUNG | JUNG
CHEN | KOK-CHOO
CHEN | MENG
CHEN | PHOEBE | HELEN
CHEN | TIFFANY | ELAINE
CHEN | YI
CHENG | HAE-YUNG | HOLLY PENG
CHENG | HELENA
CHENG | RONALD | CHUNG KEI
CHENG | STEPHANIE | HIS-SHAN
CHERPILLOD | SOPHIE | VALENTINE
CHEW | KAY | CHENG
CHIANG | CHIA | YU
CHIAO | PHYLLIS
CHIN | DIANA
CHISLETT | PAMELA | ANN
CHO | NICOLAS
CHO | SPENCER
CHOI | ELIZABETH
CHOI | JAE | MOON
CHOW | ERNEST | HO HIN
CHRISTELER | STEPHANE | DANIEL
CHRISTIANSEN | LYNN | JOANNE
CHRISTOFFEL | MARIA | BRIGITTA
CHU | CHINN-JU | HWANG
CHU | JANE | KIT YING
CHU | TIMOTHY | MAN
CIFUENTES | LYDIA | CORTES
CINTRA-ESKENAZI | EDUARDO | PALHARES
CISCO | JOHN | CLARK
CLARK | HEIDRUN | EDDA DORIS
COE | GERALDINE | ANN
COLLINS | PATRICK | CURT
COMESOTTI | JEANNE | ANNA MARIE
CONLEY | WILLIAM | BENJAMIN
CRANDALL | HAROLD | THOMAS
CRAWFORD | ANOUK | SIMONE
CRAWFORD | DONNA | PHYLLIS
CROOK | ROGER | A
CROSTHWAITE | JANET | CAROL
CSEBITS | TIBOR | NOEL
CUDDINGTON | DENISE | ALISON
CULLEN | JOHN | JOSEPH
CURJEL | STEPHANIE | BERNICE
DALBY | KEVIN | BULL
DANIEL | ANGELIQUE | YVONNE
DANIELS | LINDA | ELLEN
DAS | SHAMITA
DAVENPORT | DAVID | DUANE
DAVENPORT | JACQUELINE | GAIL
DAVIS | ARLENE | HELEN
DAVIS | BARBARA | CARRIE
DAVIS JR | TREVOR | CROMBIE MAITLAND
DAYA | NAHEED | AKHTAR
DE BIEVRE | FREDERIK
DE BLANC | MARIA | EULALIA MONEGAL
DE BRANTES | FLORE | SAUVAGE
DE CAPRONA | DENYS | JEAN-LOUIS CRAPON
DE GRACIA | REDENTOR | A
DE JONG | HAROLD | JELTE
DE KALBERMATTEN | CHRISTOPHER | GUILLAUME
DE KOVEN | DANA | LEAH
DE RIDDER | FLORENCE | ALISON ANNE
DE VEER | EDUARD | LODEWIJK JOSEPH
DE WILMARS | CHANTAL | ALEXANDRA MERTENS
DECOFINO | LESLIE | ANN
DEFOREST | MARGARET | RACHEL
DEFTY | PATRICIA | JANE
DEHAIES | STEPHANE | OLIVIER
DEHR | DIXIE | MARLANE
DEIN | GAVIN | ALEXANDER
DELACROIX | PASCALE | DE LHONEUX
DELEON | CHRISTOPHER | S
DELORI | HENRIETTA | MARY
DERRETT | CHRISTOPHER
DETTLING | RUTH | MARIA
DEURING | NICOLAS | CHRISTOPHER
DEWAR | DOUGLAS | ADAIR
DI MONTERUBELLO | EDOARDO | ZEGNA
DIANOVA | VERA | GRIGORIEVNA
DICHNE-ARNOLD | ELIZABETH | BARBARA
DICKSON | GARY
DIETRICH | DENISE | GABRIELLE FELBER
DIGGLEMANN | MYRTHA | BERTHA
DING | YUN | WEN
DION | DANIELLE | MURIELLE
DION | DENYSE | LYANE
DION | DINO | RICHARD
DIRIWAECHTER | ELLEN | MARIE
DISTEL | RITA | ELISABETH
DIXON | ANNE | ELIZABETH
DIXON | MARIA | HEDWIG
DOERING | OLIVER | REINHOLD
DOGGWEILER | REGULA
DORN | SARAH | NATHALIE
DOSWALD | MONIQUE | CAROL-ANN
DOSWALD | PETER | JOHN
DOSWALD | RITA
DOUCETTE | ERIKA | HEATHER
D'OULTREMONT | JEAN-STANISLAS
D'OULTREMONT | LAURENT
DOUMONT | ISABELLE | CLAIRE
DOVE | NATALIE
DOVER | HEATHER | MARIE
DOWSE | DAVID | PAUL
DOYLE | KYRA | MARIJKE
DRACOPOULOS | EUGENIE | MARY
DROUIN | MICHELINE
DUBACH | CHANTAL | MARIA
DUCHARME-DALLYN | SETH | FREDERICK
DUFFIELD | MOLLY | JANE
DUGAS | KRISTINE | ANN
DUPONT | DANIEL | LAURENT
DVORAK | LEONA | PEARL
DVORINA | KRISTINA
EBERSOLT | LOYS | ALAIN
ECKFELDT | JOHN | LAWRENCE
EDDE | THIERRY | JEAN
EGAN | MICHELLE
EGAN | PATRICK | CHARLES
EGGLER | PETER
EGLOFF | RICHARD | ALEXANDER
EICHENBERGER | BRIAN | ERWIN HERBERT
ELLIOTT | JANE | ANN
ERTL | ALAN | WALTER
ESPEHANA | JEFFREY | STEPHEN
ESTEVE, III | RAMON | M
ETHIER | WILLARD | DELORE
EUN | JIM
EVANS | GEOFFREY | ERROL
EVANS | JESSICA | G M
EVANS | SOON-GEUM
EYHOLZER | CARMEN | IRENE
EYHOLZER | DAVID
FABINI | CLAUDIA | LAURA
FANNING | HEIDI | ELLEN
FARIA | VALERIE | ANN NETO
FAUSCH | JENNIFER | MICHELLE
FEATHERSTONE-WITTY | VIRGINIA | ALEXANDRA
FEHLMANN | MARIA | ELISABETH
FEILER | KERIM | LATIF FARID
FERGUSON | DOUGLAS | N
FILIPPELLI | JANET | ROSE
FINK | GOEFFREY | DARRELL
FISCHER | MARC | MANUEL
FISHER | GRETCHEN
FITTERER | BIRGIT | MARIA
FITZGERALD | TIMOTHY | JOSEPH
FLEISCHMANN | FREDERICO | MANUEL
FLEURY | SUSAN | MARGARET
FLUCK | PATRIK | STEVEN
FLUCKIGER | CARINE | ANNE
FLYNN | JANE | CONE
FOGOLIN | LEE | JOSEPH
FOISY | JOAN | MARY
FOLEY | MICHAEL | J
FORD | ERIC | PATRICK
FORD | STAN
FOREMAN | LESLEY | SUSAN
FORREST | MELISSA | KATE
FOURNIER | BENEDICTE | M
FOURNIER | EMILIE | ALEXANDERIA
FOURNIER | MICHELLE | LORRAINE
FOX | ASHLEY | N
FRANK | RYAN | CYRIL
FRAUENFELDER-CLEMENTI | JULIAN
FREDERICK-PREECE | ALEXANDER | CLIVE
FREDERICK-PREECE | KATHRYN | ELIZABETH
FREI | ELISABETH
FRENETTE | JASON | ROBERT
FRESCHAUF | GILMAN | SEVERANCE
FRIEDMAN | MICHAEL
FRITZ | CHRISTINE | ELSBETH
FU | CHONG
FUCHS | MICHAEL | ALFRED
FULLER | JULIE | BETH
FULLERTON | SHAWN | MARGARET
FURNER | TIMOTHY
GALEWITZ | BENJAMIN | SAMUEL
GALLOWAY | KELLY | LOOE BAKER
GAMBINO-BROOKS | EMILY | JEAN
GAMES | JAVIER | HANS
GANZ | CHRISTOPHER | ANDREAS
GARTNER | ISABELLE | INGA DANIELLE
GAXIOLA | ROBERT | JOSEPH
GBADEGESIN | ADEMOLA
GERRARD | VANESSA | EDITH
GESING | HANNAH | BIRTHE
GESKES | GERARD | W
GESKES | JOSEPHINE | G
GIANVITI | PHILIPPE | VINCENT
GIBERT | DELFIN
GIBERT | MARIA
GIGON | CLAIRE | MARIE
GILL | KAREN | ANN
GILLOFFO | JAMES | HAROLD
GILMOUR | ANNE | ELIZABETH
GINSBURG | GERALD | ALBERT
GINSBURG | MARILYN
GLINTON | BRYAN | ANTOINE
GOH | CLINTON | ZHENG DA
GOLAN | YAEL | SHIMOR
GOLDBERG | LESLIE | ANN
GOLINO | VALERIA
GONZALEZ | LORENZO | MAURICIO
GOPALAN | GANESH
GORMAN | TODD | ERIC
GORTAN | ALEXANDRIA | MARIA
GOTTRON | NICHOLAS | KU YU LONG
GOUDEY | KETTI | BETH
GOULD | DAVID | ADAM
GRAAFF | BRIGITTE | K
GRAAFF | WOLFGANG | J
GRACIA-RODRIGUEZ | EDUARDO
GRAF | MIRIAM | LYNN
GRAHAM | CAROL | YVONNE
GRAHAM | ERIC | JOSEPH
GRAM | ERIN | LORRAINE
GRAM | JOHN | PATRICK
GRANT | DUNCAN | STEWART
GRAVATT | DAVID | ALLAN
GREEN | ALICE | TSUNG-REI
GREENLEE | STEPHEN | BARNETTE
GREGG | ELIZABETH
GREIS | PETER | LEE
GRENIER | BERTRAND | VIANNEY
GRENIER | DOLORES | MARGUERITE
GRETZINGER | BERND | JUERGEN
GRINDLE | SCOTT | LEROY
GROSS | BARBARA | HELEN
GRUPP | ARON | L
GUALLINI | SANDRO | GILBERT
GUDJU | STEFAN
GUERRA | ANA | LUISA
GUERRA | ANA | MARTA
GUERTIER | ROSEMARIE
GUETHER | RALF
GUNDERSON | JOSEPH | WILLARD
GUSTAFSON | MICHELE | FLORENCE CHARLES
GUTHRIE | MARTHA | JAMES MILLER
GUTHRIE | SHIRLEY | JANET
GYSLING | ROGER
HAAS | SEBASTIAN | MARTIN
HACKWORTH | ROSS | AARON
HADADI | FARZAN
HAEG | MARGARET | RAE
HAGEN | JOHN | ROGER
HAMERSLEY | LINDA | HILLES
HAN | MEI
HANEGREEFS | ASTRID | RAPHAELLE
HANEGREEFS | TIM | FRANS
HANSON | ROSS | COCHRANE
HARB | IRENE | KUPFER
HARBECK | JOHN | KENNETH
HARGRAVE | WALLACE | WYANEL
HARNDEN | LOIS | ELIZABETH
HARRIS | ROBBIN | JARRELL
HARTILL | TIMOTHY | JOHN
HARTL | EVELINE | SUSANNE
HARYETT | GABRIELA | SANDRA
HASEGAWA | KEIKO
HATAMI | LILI
HATTORI | MASAKAZU
HATTORI | REIKO
HATZFELD | STEFANIE | THERESA
HAUSER | ALBERTO | DANIEL
HAUSER | REINHARD
HAUSLER | BRIANA | MAGDALENA
HEALEY | PAMELA | ELIZABETH
HECKER | MARCELLE | DIANA
HEDQVIST | AYSE | GUL
HEGLAND | ANNETTE | SUE
HEIDERMANN | JAN | PETER
HEIN | JANELLE | LYNN
HENDERS | LINDSAY | DAWN
HERMANN | JUDITH | AUDREY
HERRMANN | EUNHWA
HICKEY | ALTA | LYNN
HICKEY | LAURENCE | MICHAEL
HICKEY | TRAVIS | EDWARD
HILDRETH | MARTYN | A
HILLENBRAND | KRISTIN | JENNIFER
HINSHAW | MATTHEW | LAMONT
HIRAKAWA | MATTHEW | CARR
HIRSCHI | ANGELINA | YVONNE
HOELLRIEGL | ELDRED | MARY
HOLDGATE | KAI | THOMAS EDWARD
HOLLAND | GAIL | DAVIES
HOLMES | DAVID | ALAN
HOLMES | LILLIAN | FAY
HOLT | JOHN | GRATTAN
HONG | OK | JA
HORAN | CATHRYN | M
HORAN | DENNIS | K
HOREL | KIRSTEN | LIESE
HOWARD | ALISON | FRANCES
HSIAO | YA | WEN
HSIEH | EN-LING
HSIN | IVAN
HSU | DEBRA
HSU | JASON
HSU | JULIA
HSU | SAMUEL | SAN-BAN
HU | KER | DIN
HUANG | CHARLES | KANT
HUANG | HER
HUANG | JACK
HUANG | YIMIN
HUBAI-MUHLEN | LINDA | PATRICIA
HUDSON | LOUISE | PATRICIA
HUNNINGHAUS | JUDITH
HURD | MARIANNE | RIBER
HYRVE | RUTH | ANN
IBIRICU | BERNICE | DE D'ABBADIE
IMMENHAUSER | ADRIAN | MARK
INAUEN-VON HOLTEN | MARTINA | ANDREA
INNES | HELEN | MILDRED
IRMINGER | DENIS | ERIC
IRMLER | CHRISTINE | JOSEPHINE
IRWIN | JAMES | MICHAEL
JACKSON | SYLVIA | CARLENE
JALIL | PUTRA | PERKASA ABDUL
JAMES | PHILOMINA
JANSSEN | NICOLE | LYN
JAVANTHEESWARAN | SUJA
JEAN | PIERRE | DENIS
JENG | AMY
JERKOVIC | GINO
JIRDEH | FARAH
JOE | MINJI
JOHANNSON | GAYLE | ANNETTE
JOHNSON | MADELINE | JOY
JOHNSTON | DEBORAH | RUTH
JOHNSTON | EILEEN | RITA
JONES | DANIEL | MARK
JONES | LARRY | NATHAN
JOPLING | FREDERICK | HAIGH
JORDAN | DAVID
JORDAN | NATASHIA | MELTEM
JOSEPH | MICHELLE | CLAUDIA
JUNKIN | NOREEN | E
JURICEK | GIAN | PAOLO
KABAR | FIRAS
KADI | JOE | FAEHAT
KALAVSKY | ANNTRAUD
KALIMTGIS | EVANGELLOS
KALLSTROM | DANIEL | ARNOLD
KANADE | TAKEO
KANADE | YUKIKO
KANG | YOUNG | HEE
KAUFMANN | CHRISTINE | ANNA
KAUFMANN | ERIC | MARCEL
KAUFMANN | MARC | CHRISTOPHER
KAUMANN | DEBORAH
KAWAKAMI | MIYUKI
KEARSEY | PATRICK | ALEXANDER
KEET | JUDY | ANN
KEIM | ROBERT | GORDON
KELLER | KAROLINE
KELLY | JOHN | WILLIAM
KELLY | STEVEN | KENNETH
KEMPLING | LINDA | KATHERINE
KENRICK | ANN
KENT | HEATHER | TAMSIN
KERSTING | HANS | EDWARD
KESSELER | CLAUDE | JANINE
KHAN | ABDUL | WAHEED
KHOU | JERVAN
KIANGSIRI | JAIMIE | RUKSHANOK
KIM | HYUN | SIK
KIM | HYUN-JIN
KIM | JUSTIN | SUNGKYUM
KIM | SANG | HO
KIM | YUN | OAK KAUFMANN
KING | ERIC | RICHARD
KING | ZACHARY | ANDREW LUCAS KYLE
KINGHORN | ELLEN | LOUISE
KIRBY | PAULINE | MARIE SIGRID
KIROSKA | CAROLINE | EILEEN
KIRYLO | DANIELE
KNUTSEN | KAREN | SUE PATRICK
KOBAYASHI | SHARON | LEE
KOENIG | QUINTIN | E
KOHL | CHRISTINE
KOHLIK | SUZAN | I
KOLES | ANDREW | MICHAEL
KOLLERT | ANGELICA | MARIE
KONDRATIEVA | LIA
KOSIUR | AUDREY | LORRAINE
KOTHNY | WOLFGANG | C
KOURUKLIS | ALEJANDRO | BASILIO
KRAGH | MERETE
KRAGH | SOREN
KRUEGER | MARKUS | WILHELM
KRUITHOF | KIM | ELISE
KRUPER | CHERYL | ANN
KU | ALAN | AN SHENG
KUBIK | ERIKA | DAWN
KUERSCHNER | SAPHIRA | ANN
KUMAR | MIMI | SAURAJEN
KUNATH | GEORG | FRIEDRICH
KUNDER | ERIC | CHRISTOPHER
KUNZ | DENISE | CORNELIA
KUNZ | HEDY
KUNZ | VICTORIA | ELISABETH JOYCE
KUO | REYNOLD | LUN-HUNG
KUO | STEPHANIE | SU-TING
KURODA | MITSURU
KWAN | CLARENCE | SIU
KWAN | JULIUS | SHEN TIEN
KWAN | MATTHEW | TAI FAI
KWON | RICHARD | O
KWUN | MICHAEL | JOON-BUM
KYRIACOPOULOS | FLORA | MARIA
KYRIAKOPOULOU | LELY
LAHODA | ANDREE | LOUISE
LAI | LEE-WEN | CHEN
LAM | CHI | HUNG
LAM | ESTHER | KAN HING HGAO
LAM | JESSICA | HARR
LAM | KELVIN | HONG HANG
LANG | ANDREW | WILLIAM
LANGAN | MARC | DOMINIQUE
LANGKAU | FRIEDERIKE | KATHARINA
LARSSON | LISA | BETH
LATTA | ROBERT | LESTER
LATTEIER | JAMES | LOCKETT
LATTEIER | JAMES | LOCKETT
LATTEY | LAURA | RENEE
LAUSUND | BRIAN | THOMAS
LAVER | KIM | BERTRAND
LAYZELL | LAWRENCE
LAYZELL | MARGARET | S
LE GALL | PATRICK
LE HODEY | CHARLES | JUAN
LE POIDEVIN | IAN | MATTHEW
LEBARIC | KATARINA
LEE | ALAN | HSIN-LUN
LEE | ALEX
LEE | CHUN | H
LEE | DAHAN
LEE | ELLEN | WONG
LEE | JENNIFER | OY-C
LEE | KATHERINE | NATTY
LEE | KIYOUNG
LEE | MICHELLE
LEE | WILLIAM | TEHYEE
LEE | YUN | H
LEEK | MARCUS | ANDREW VANDER
LEFORT | CAROLINE | VALENCE
LEIGH | ROBERT | SCOTT
LEO | SHEIRLY
LESLIE | SHONA | S
LEUENBERGER-ROIHA | MONIKA | MARIA
LEUTHOLD | ULRICH
LEVERT | CARMEN | STEPANIE
LEVINSON | GARY | ELDEN
LEVY | JONATHON | SALOMON
LEWIS | NINA | PATRICIA
LEYBMAN | MISHA
LI | AUDREY
LI | JOHN | YU-HSIEN
LICHTMAN | BURTON | KALOM
LIEBERHERR-PUGH | LISA
LIN | DAVID
LIN | JACK
LIN | JOHN | JENHO
LIN | KATHY | T L
LIN | KUNSI
LIN | PING | LUN KEVIN
LIN | STEVEN
LIN | WEN-I
LIN | YEN | HUNG
LIN | YI | HSUAN
LIN | YI | HSUAN
LING | YU-WEN
LITTLE | JULIA | MARIE
LIU | CHIAMIN
LIU | CHIH-HUI
LIU | EDWARD
LIU | IAN
LIU | LU
LIU | MINGYI | STEIM
LIU | WEI-TING
LIU | WELLINGTON | YEU AN
LIU | XIAO | DAN
LOCK | DEBRA | LOU
LOFFLER | GIANIN | ANDREAS
LOHMUELLER | UTE | VIRGINIA
LOHRMANN | DAVID | CHARLES
LONG | LLOYD | GEORGE
LORENZETTI | ENRICO | CARLO
LOSADA | JAVIER
LOSADA | MARIA | DEL PILAR
LOVELL | WILSON | ALFRED
LOWEN | MICHAELA | MARIA THEUX
LU | HUNGEN
LU | P | NICHOLAS
LU | YUCHUNG
LUI | ALICE | MON-WAH
LUI | ANDREW | NICHOLAS
LUKE | ERIC | IVAN
LUND | ELLEN | STANG
LUNDEBERG | LARS | CHRISTER
LUTES | DARA | NOEL
LUTZ | DEAN | WILLIAM
LUTZ | MARGARET | ANN
LUYCKX | OLIVER | ANDRE
LYTLE | KENNETH | ALVIN
MA | HONG
MA | MICHAEL | WEI-CHEN
MA | NICK
MA FAURE | AMY | TA-HUI
MACISAAC | JOY | KATHLEEN
MACKENZIE | CATHERINE | ANNE
MACKEVETT | DOUGLAS | NAT
MACKIE | AARON | PRESTON
MACKINTOSH | MARJORIE | CAROL
MACLEOD | LAURIE | ANN
MACZAN | PAWEL
MAECHLING | SIMON
MAEDLER | SUSAN | URSULA
MAGIS | SHERRI | LYNN
MAHANTY | LARA | NAMITA
MAIER | DIANA | HAZEL
MAIZE | CHRISTOPHER
MALONEY | CATHERINE | ANN
MANDRALIS | ZENON | IOANNIS
MARGOLYES | MIRIAM
MARISCAL | MARIA | DEL PILAR
MARSHAL | MERRILL | LAYNE
MARSHAL | PAULETTE | FAE
MARSHALL | KEITH | SPENCER
MARSHALL | THERESE | SCHEURING
MARTI | CORRINE | LEE
MASEK | CHRISTOPHER | PATRICK
MATHIEU | ANTOINE | PIERRE EMMANUEL
MATHIS | MONETTE | ANN
MATHISEN | SVEN | ROSS
MATTMANN | ROGER | HANS-RUDOLF
MAUNDER | LOIS | JANE
MCGOWAN | DAVID | ANTHONY
MCCANN | ALLISON | MARY GROCHOWSKI
MCCLELLAND | LEONA | MARIE
MCCULLOUGH | JOANNE | M
MCLEOD | LAURA | JANE
MCMANEMIN | LYNETTE | MARGARET
MEDINA-MORA | ANDRES
MEEN | MARIANNE
MEIJER | MACHTELD | ANITA
MERCHANT | VIVIAN | EDWARD
MERONEK | LESLIE | LEANN
MESSINA | FRANCESCA
MESSINGER | JAMES | ALLEN
MESZAROS | TIBOR | DANIEL
MEYER | LEILA | ELISE
MEYER NIENHAUSE | BRIGITTE | PAULA
MEYHACK | THOMAS
MEYRE | PHILIPP | TROY
MIAO | CHI-ZING | KELLY
MICHEL | LISELOTTE | MARIANNE
MICHEL | MARC | FRANCOIS-MARIE
MIDDELKOOP | KATINKA | I
MIHIC | NIKOLA
MILANOVIC | MARIO
MILLER | CRAIG | LANE
MILLER | GORDON | E
MILLER | KANDIS | LYNN
MILLER | LANCE | ROSS
MILLER | MICHAEL | DAVID
MILLS | JULIA | PATRICIA
MIMRAN | VANESSA | DELPHINE
MINTZ-WEBER | CAROLYN | SUSAN
MITCHELL | JOANNE | EUDORA
MOATS | DANIEL | JAMES
MOELLENHOFF | LYDIA | NICOLE
MONTAGNE | JAN | DIEDERIK
MONTINI | MARC | RAYMOND
MOORE | DAVID | SAMUEL GAILEY
MOORE | WENDY | LYNN
MORGAN | COLEMAN | JOHN
MORGAN | JOHANNA | M
MORILLAS | VERONIQUE | ANNE
MORISON JR | THOMAS | JAMES
MORRISON | JAMES | FREW
MORSI | PERIZAD | FATHI ABAS
MORTIMER | HARRIET | LOUISE
MOSES | CHERYL | ANN
MOU | KEVIN | HANNREN
MOULIN | ALICE | ELIZABETH
MOUNT | JEFFREY | MARK
MOUNT | KENNETH | STEPHAN
MUELLER | LISA | ADELE BENJAMIN
MUNOZ | ERIC
MURNER-PATTEN | CYNTHIA | ANN
MURRAY | ALISON | KING
MURRAY | MARY | ANN
MURRAY | NANCY | ELLEN
MURRELL | DIAN | LEE
MUSGRAVE | THOMAS | STEFAN
MUSGRAVE | THOMAS | STEFAN
MUTH | MARK | PHILIP
MUTZENBERG | STEFAN | RUDOLPH
MYSHKIN | OLEG | ALEKSEYEVITCH
NAGAOKA | MASAYUKI
NAGAOKA | NORIKO
NAGY | IMRE
NARANJO | ANGELA | MARIA
NARANJO | JOSE | HERNANDO
NAT | MARGRIT | RUB
NEARY | RICHARD | PATRICK
NEEDHAM | NICOLE | ANDREA
NEIRYNCK | MAHE | SANDRINE
NELSON | JULIET | MARIE
NELSON | WINSTON | ALLEN
NG | CHRISTOPHER | TIAN WEI
NG | SHEILA | JANE ONG
NG | WAI | HONG
NG | YIN-MEI
NG | YUK | FONG
NICKL | JUDITH | C
NICKL | WOLFGANG | U
NICOD | NATHALIE | MARIE
NIELSEN | CHARLES | WILLIAM
NIEMEYER | ALEXANDRA | KATHARINA
NIGGELER | ELEANOR
NIUNOYA | KEIKO
NIUNOYA | TAKEO
NOGUCHI | KEN
NOORBAKHSH | LILIAN | FATIMA
NORCROSS | JAMES | PAUL
NOUR | HILDA | ARIAS ABDEL
NOVOSELSKIY | ROMAN
NUESCH | STEFAN | FEDERICO
NUSSBAUMER | MICHELE | MARY
NYDEGGER | MICHAEL
OBERLANDER | WENDY | ELIZABETH ROSE
ODDY | CHRISTINE | ELIZABETH
OHRI | CHANDNI | G
OKADA | RENA | LAUREN
OKAMOTO | NAOYUKI
OLINSKY | NEIL
OLIVER | CAROLE | ELIZABETH
OM | MISEON
ONG | DEBORAH | JOY
ONG | ENG-LYE
OPLE | BARBARA | ANNE
OROZCO | MARIA | ELENA URREA
OSBORNE | WILLIAM | MICHAEL
O'SHAUGHNESSY | SUSAN | BEECHER
OSMENA | ISABEL | LOPEZ
OSWALD | MAJA
OTTINO | CHRISTIAN | PAUL
OTTO | ANDREW | TED
OUSSEIMI | MOHAMED
OVERTURE | DALE | N
OVERTURF | ANDRES | TIMOTHY
OWEN | GARY | ROBERT
PACE | JENNIFER | ANN
PAK | DONG | HEE
PALLAVICINI | STEPHAN | HART
PALMER | MAX | JAY
PALMER | STEVEN | WILLIAM
PAN | GLORIA
PAQUET | PAUL | CHARLES FRANCIS XAVIER
PAQUETTE | KYOUNG
PAREDES-CANEVARI | FELIPE | ALBERTO
PARK | ANDREW
PARK | JUNG | SUCK
PARK | JUNGSIK
PARK | KYUNGHWA
PARKAN-MOESCHLER | LUCIENNE
PARKER | EUGENIE | SUZANNE
PARKER | JARRETT | DEAN
PARKES | ANDREW | J
PARKINS | JOHN | RUSSELL
PARRY | RICHARD | BRYAN NAVARRETTE
PARSONS | JOHN | DAVID
PARSONS | JUNE
PATEL | PRAVINCHANDRA | MULJIBHAI
PATTERSON | JAMES | MICHAEL
PEARSON | MELISSA | KAY
PEARSON JR | JOHN | WARREN
PECK | DAVID | NORRIS
PEJAN | CYRUS
PELEG | GABRIELLA
PELEG | SHMUEL
PELLET | ARK | PETER
PELLISSIER | LOUIS | CALVIN
PEN | MAY-LI | FU
PENDERY | DARREN | FREDERICK
PENG | HUAN | RONG
PENSAERT | MARK | RICHARD CLARA
PEPPER | MARK | E
PEREZ | ALEXANDER | ALBERT MICHAEL
PERKINS | LAURA | HALLIE
PEROTTO | LAURA | ADRIANA
PEROTTO | OSCAR | MARCELO
PERRETT (NEE CLEMENT) | SARAH | ELIZABETH DOROTHY
PETERMANN | GENEVIEVE | JOYCE
PETERS | RENATE
PETIT | KATERINA | DEBORAH
PETRIE | RICHARD | GORDON
PETTENGILL | SHONA | MARIE
PETTIS | RONALD | FLOYD
PETTIT | WAYNE | D
PETTMAN | IAN
PEYER | SEAN | MICHAEL
PFISTER | ANNE-LAURE | SUZANNE
PFISTER | MICHAEL | JOSEF
PIANTA | DANIELA | MARTHA
PICTET | CLAIRMONDE | ISABELLE
PIERONI | DANIELLE | BRIDGET
PIRIE | PETER | FREDERICK
PLANE | DANIEL | ROLAND
PLESKO | ROCHELLE | LEONA
PLOSTON | JUDITH | ANNE
POIRE | MURIEL
POLLAK | ROBERT
PONS | BOBBY | STANLEY
POON | PATRINA
PORRET | ALAIN | SERGE
PORTER | BRIAN | K
PORTER | NELSON | KEELER
PORTMANN | CAROLINE | VERENA
POTVIN | CLAUDE | LAURENT
POURCINES | ELISABETH | ROSA GROB
POWELL | CHARLES | LUKE
PRESWICK | BARRY | ALEXANDER
PRETOR-PINNEY | LAURA | HAIGHT
PRINS | MARINA
PROCTOR | JAMES | SCOTT
PROMPHAN | TIPORN
PUNTER | LINDA | ELLEN
QUADRI | VIVIANE
QUAIL | DOUGLAS | WILSON
QUAN | WALTER | KEOKI
RACH | SEAN | ALLEN
RACY | MAYYA
RAHM | CHRISTINE | SUZANNE WIDMER
RALSTON | BARBARA | JOY
RAMER | WILLIAM | DAVID
RAMIREZ | SOFIA | ISABEL
RAMSEY | HEATHER | RENEE
RANADIVE | MANDA
RANKIN | SCOTT | ALLAN
REDDY | PAVAN
REDMOND | PATRICIA | ANN
REEVES | CATHERINE | ANN
REEVES | JEANINE | FRANCES
REGNIER | CONSTANCE | MARIANNE
REGNIER | STEPHANE | A
REHSTEINER | FELIX | CARL
REHSTEINER | SUSANNE | REGULA
REICHL | PAVEL
REINHARDT | LUZIAN | COLIN
REISWIG | ANN | MARIE
REISWIG | HENRY | MICHAEL
RENIERI | AUGUST | LEANARD
REPRESAS-GIL | MARIA | LETICIA
RESENDE | ANTONINA
RESTALL | LAETITIA | SUSAN
REXIN | MARILYN | JEAN
RICHARDSON | HELEN | E
RICHARDSON | NIGEL
RICHTER | BARBARA
RICHTER | MARION | ELISABETH
RIGERT | BERNADETTE | MARIE
RILEY | BARBARA | ANN
RINGWALD | LESLIE
RINK | CHARLES | TIMOTHY
RITACCO | ROBERT | PATRICK
RITZ | STEFAN | P
RIZWAN | ADIL
ROBERTS | KEITH | TEXAS
ROBERTSON | MICHAEL | THOMAS
ROBINSON | DRUE | JANE
ROBINSON | JAMES | BERESFORD
ROBINSON | MEGAN | FIONA
ROBINSON | MELINDA | POWELL
ROCHAT | EILEEN | JOANNE
ROCHE | BRYAN | DAVID
ROCKEL | RETA | VIOLA
RODER | JENNIFER | CHRISTINE
ROIG | MIGUEL | ANTONIO
ROM | EMANUEL | D
ROMANO | LORENZO | MARIA
ROMANYCIA | BILL | EMIL
ROMANYCIA | MORGAN | ASHLEIGH
ROMANYCIA | WILLIAM | STANLEY
ROSE | SUSAN | MARGARET
ROSS | CAROLYN | HUNTER
ROTH | NANCY | CLAIRE
ROTHENBERGER | IRENE
ROUFOSSE | MICHELINE | CLAUDINE
ROUSSEAU | CARL | JOSEPH
ROUSU | DONALD | CARTER
ROUSU | RUTH | ANN
ROWLAND | ANN-MARIE
ROY | GINETTE
ROY | JENNIFER | LYNNE
ROY | MICHELINE
RUDINSKY | HELEN
RUDNICK | STUART | ELLIOT
RUDSTON-BROWN | MELODY | KATHLEEN
RUESCH | ROBERT | JOHN
RUF | ALFRED
RUF | MAJA
RUZIO-SABAN | GJOKO | TOMAS CHARLES
RYAN | AISLING | EMMA
RYZHKOV | PETR | GRIGORYVICH
SACKELA-GEIGER | ALEXA
SACKELA-GEIGER | HALEY
SADIK | AL-SHARIFA | DINA WAEL
SAGMANLI | EROL | MUSTAPHA
SAGMANLI | OSMAN | OMER
SAHGAL | GAUTAM | GIORGIO
SAHNI | JITENDER | SINGH
SALKA | JEFFREY | HOWARD
SAM | SYDNEY
SANSONI | MARTINA | EDOARDA
SANTANGELO | DAVID | ELMER
SARTORI | CLEMENT | ROMANO
SAUNDERS | KATHLEEN | BRIDGET
SAW | SHEAN | HUEI
SAWBY | EDWARD | JEROME
SAWYER JR | JOHN | SHERMAN
SCHENCKING | JOHN | CHARLES
SCHERK | MARGARET | ANNE
SCHIEGG | LAWRENCE | WERNER
SCHLENKER | PHILLIPPE
SCHMALCEL | KELLY | JANE
SCHMALZRIED | MARTIN
SCHMID | CENDRINE | CHANDRA
SCHMID | GABY
SCHMID | LAI | YIN
SCHMIDT | COLLEEN | ANNE
SCHMITZ | ANDREA | LOUISE
SCHNEEBERGER | SUZANNE | VIRGINIA
SCHNEIDER | ELISABETH | MAUREEN
SCHNIDER | ROLAND | ERNEST
SCHOTANUS | SHIRLEY | FRANCES
SCHRODER | GEORGE
SCHUH | DORIS | MAE
SCHWEHM | JOHN | FREDERICK
SCHWEIGHAUSER | MARTIN | ANDREW
SCHWEINGRUBER | SIMON | CRAIG
SCHWEITZER | IAN | ALAN
SCIARRONE | JOSEPH | WILLIAM
SCIMONE | STEPHEN | ANTHONY
SEARA | INES | MARTINS ROBOREDO
SEBASTIEN | MARIE
SEET | MONICA | JIN LI
SEGRE | STEFANO
SEHEULT | BRENDA | GERTRUDE PIRIE
SEIDEL | ANTON | R
SEIDEL | SUSANNAH | CLEA
SEILER | PAUL
SENN | CLAUDIA | NINA
SERVATY | GERALD | L P
SEUNG | ERIN | HEESOO
SHARP | ERIN | LESLIE
SHARP | RANDALL | FREDERICK
SHAW | TERESA | FAN SCHRIN
SHERGINA | OLGA
SHERMAN | ULRIKE | A
SHERWOOD | RUSSELL | THOMAS
SHIAU | HOBIN | SMART
SHIN | DAVID | DONGJOON
SHIN | JUNGWON
SHIPTON | JOHN | VICTOR
SHIPTON | TIMOTHY | JAMES
SHRAGGE | LESLIE | GULOIEN
SILVY | CAROLINE | RENATA GRAMLEY
SIMAS | KATHLEEN | ANN
SIMCIC | MARGARET | VOISIN
SINGER | ADAM
SKIPP | DENISE | GOODE
SLADDEN | MICHAEL | B
SMETANA | SABRINA | ANN
SMITH | CAROLYN
SMITH | DARRELL | WAYNE
SMITH | J | BARTLETT KEMP
SMITH | JANE | DAPHNE
SMITH JR | DANIEL | SCOTT
SMITHERS | AMELIA | OTWAY
SOKOLOVE | EUGENE | GUENNADEVICH
SOLAND (AKA LACOURTE) | CAROL | VIVIAN
SOLARI | MARIA | IGNACIA
SOLIS | MARIELA | POCHON
SOLOVYOV | ALEXANDER
SONDEREGGER | JACQUELINE | YVONNE
SONG | ANDREW | JUHWON
SOONG | YI-DEH | KENNY
SPAHN | STEPHANIE | GABRIELA
SPARKE | CAROLE | JACQUELINE
SPENCER | CHRISTOPHER | CURRIER
SPYCHER | MARICEL
ST GERMAIN | KITANOU
ST JOHNSTON | THOMAS | ALEXANDER
STAARTJES | LUCY | PAULINA
STAHEL | ANINA | BARBARA JENNIFER
STAHEL | PAMELA
STAHELIN | ANDREAS | CHRISTOP
STAHN | GREGORY | ALLAN
STAHNKE | JEAN | LOUISE
STAHNKE | MICHAEL | LESLIE
STALEY JR | ROBERT | TRENARY
STAPLETON | MARY | MARGARET
STARR-LASSEN | MARTINA
STAUFFER | THOMAS | PETER
STCHERBATCHEFF | BARBARA | LYNN
STEEVES | SUZANNE | MARIE
STEIGER | ROBERTA | ANN
STEINMANN | DAVID
STEPHENS | JANINE | ELIZABETH
STEPHENSON | MELANIE | C
STEPPENS | BRIAN | ROY
STEUER | GEORGE | CASPER
STEWART | PENELOPE | JOAN
STILLHART | MARTIN | KARL
STILLWAGON | BRADLEY | DON
STILLWAGON | GREGORY
STINGELIN | LUKAS
STOCKLI | CHEN
STOLZE | MAGDALENA |
STONE | SAMANTHA | GAYE
STOTHERS | LUCILLE | FLORENCE
STRAUSS | JOHN | L
STREMSDOERFER | MATHIEU | GUY
STRINGER | LAURIE | JEAN
STRINHOLM | SHARON | LOUISE
STRYCK | SUSAN | RAE VETRANO
STUCKI | IRIS | GABRIELA
STUMBAUM | CHRISTINE | RITA
STURGEON | ERIC | ALEXANDER
SUH | NARI | HEESEUNG
SULLIVAN | JOHN | ROGER
SULLIVAN | KATHLEEN | MARY
SUTAPAK | SRITALA
SUTER | BARBARA | ANN
SWANSON | MARY | MADONNA
TAM | WINSON
TAN | JASMINE
TANAKA | TERUMI
TANDY | EDWIN | DANIEL
TANG | CHIA | HWAY
TANG | ZHENGYU
TANNER | HANS-RUDOLF | GUSTAV
TAY | CHARMAINE | WAN CHIN
TAYLOR | GABRIELLE | BETH
TAYLOR | MAURICE | FATIO
TAYLOR | SANDRA
TAYLOR | SARAH | RAFN
TAYLOR | WENTWORTH | HARRY
TEWORDT | MATTHIAS | LUDWIG
THAISS | LAILA | MARIA
THELEN | ALFRED | STEPHAN
THEODORACOPULOS | MANDOLYNA | CARLA
THEUER | MARGIT
THOBANI | SHAHBIR | UMED
THOM | LINDA | LOU
THOMAS | ANNETTE | CHRISTINA
THOMASSEN | JOHANNA | S
THOMASSEN | JULIUS | C
THOMPSON | ADAM | LOCKWOOD
THOMPSON | MARTHA | JOAN
THOMPSON | STEPHEN | DOUGLAS
THORNER-MENGEDOHT | CATHERINE | JANE
THUNOT | ANDRE | FRANCOIS
THURAU | GERT
TODTMAN | DAVID | ALLEN
TODTMAN | KATHEE | LYNN
TOMASSI | PAUL
TOMITZEK | CHRISTIN | NICOLE
TOMOHARA | AKINORI
TONG | FRANCIS | HO YUEN
TRACHSEL | JOHN
TRAVNIKOVA | ANASTASIA | A
TREMBLAY | COLETTE
TREMBLAY | GENEVIEVE
TRIVEDI | ANIKET | BHAIRAV
TRUSSELL | REBECCA | ANN
TSAI | DAVID | CHING-RONG
TSAI | EUGENIA | JADE
TSAI | FUNG | HSIANG DENNIS
TSAI | NELSON
TSAI | SU-MEI
TSANG | KWOK | KEUNG
TSOI | SAU | YEE
TURNER | BRUCE | EDWARD
TYURINA | MARIA
UDRY | JEANNE | MATHILDE
UNSWORTH | PATRICIA | ANN
VACIK | THOMAS | DENNIS
VALLEJO | IVONNE | M
VALORI | ALBERTO | MAURIZIO
VAN DER BERG | NIENKE | ELISABETH
VAN DER PLANCKE | NATHALIE | PIERRE FRANCINE
VAN MONTFORT-KREUZER | MICHAELA | MARIA
VAN OS | RENEE | CATHARINA
VAN WYHE | JOHN | MICHAEL
VAROTTI | MARCUS | VINICIUS
VAYNSHELBOYM | SVETLANA | VLADIMIROVNA
VELOSO | FRANCISCO
VENKATESH | SMITHA
VERCRUYSSE | SYLVIE | MARIE-NOELLE
VERGNAUD | SEBASTIAN | ANTOINE
VERKAIK | ROGIER
VESPA | MARIO | OP
VIANELLO | JODY | JOAN
VILLAT | JESSICA | WENDY
VINK | DENNIS | JAMES
VOGELBACH | SEBASTIAN | NICOLAS MAXIMILIAN
VOGT | CHIN | KIM
VOLLENWEIDER | WALTER
VON ARX | SEVERIN | TERENCE
VON HOLTEN | MARIO | JOHN
VON WIETERSHEIM-KRAMSTA | KARIN | INES BARBARA
WACKERNAGEL | JACOB | LAURENZ
WADDINGTON | JENNIFER | ANN
WAGG | JONATHON
WAGNER-VOELLMIN | SUSAN | DOREEN
WAINWRIGHT | MAUREEN | ANNE
WALCH | KATHARINA | MARIA FRANZISCA
WALKER | DEREK | JAMES
WALKER | PATRICIA | LYN
WALSH | JILLIAN | FALKENBERG ANNE
WALSH | REGHAN | FALKENBERG ALISON
WALTER | JOHN | HENRY
WALTER | WILLIAM | STUART
WALTHER | PAUL | ROBERT EARL
WAMPLER | AUDREY | CAROLINE
WANEY | MEHER | SAMARA
WANG | AI | LU
WANG | ANDY | JEN-WEN
WANG | CAROL | HSIAO PIN
WANG | CHIH | CHUNG
WANG | CRYSTAL
WANG | MEI-YUE
WANG | PEI | CHUN
WANG | PO | SHEN
WANG | YIN | TING
WANNER | RICHARD | ANTHONY
WASHINGTON | HELENE | MOLTZ
WASSINK | JANELLE | AILEEN
WASZYK | PATRICIA
WATKINS | RICHARD | AMMON
WEBER | BARBARA | JEAN
WEDEMEYER | CHRISTINE | CAROL
WEI | WEI
WEIKART | DAVID | RICHARD
WEIKART | JANE | MEINHARDT
WEINBERG | ELIZABETH | KELLY
WELT | DIANA | LYNN
WELTI | BRIGIT | GILBERTE
WERDER | JENNIFER | DIANE
WERY | MARLENE | BARBARA
WHEATLEY | SAMUEL | ERIC
WHELAN | THERESIA | AGNES
WHITESIDE | MEREDITH | JOHN
WHITING | CHRISTOPHER | MORRIS
WICK | LESLIE | ANN
WICKINGSTAD | DAVID | NORMAN
WIEMER | JEWELL | RAE
WIGHT | ROBERTA | JEAN
WIGLEY | GEORGINA | MARGARET
WILCKE | IAN | PAUL
WILLIAMS | ELLEN | CHARLOTTE
WILLIAMS | LORRIS | HARRY
WILLIAMS | MARY | KATHERINE
WILLIAMS | RANDALL | LEE
WILLIAMS | ROBERT | DAVID
WILLIAMSON | CAROL | LYNN FAUST
WILLSON | NANCY | GAIL
WILLSON | NANCY | GAIL
WILSON | FRANK | BRADFORD
WINKLER | LYNETTE | CLAUDIA
WINTERMANN | KLAUS | GERHARD
WINTERS | STEPHEN | KENNETH
WISEMAN | JUDITH | ELAINE
WITMER | DIRK | KARL EARL
WOHLGEMUTH | JENNIFER | SUE
WONG | AMY | HONG
WONG | CELINE | H
WONG | KA | CHUN
WONG | KIN | YIN
WONG | KWOK | YING
WONG | TJING-HWA
WOOD | JOSHUA | DANIEL
WOOD | JUSTIN | PHILLIP
WOOD | MARGARET | A
WOODWARD | GUY | FREDERICK
WORNE | MICHAEL | JOHN
WRIGHT | DAVID | C
WROUGHTON | JOHN | RICHARD
WU | CHAD | C
WU | ERIC | CHIEH-CHUNG
WU | HSIEN | HSIEN
WU | JEFF | CHIEH WEN
WYFFELS | ERIC | PAUL
XIAO | YONG
XU | BIN
YAMAGUCHI | HIROKO
YANG | HELLEN | KUEI MEI
YASUDA | NAOMI
YASUDA | NAOMICHI
YASUHARA | NORIKO
YEH | AI-YUN
YEH | CHEN-SHIN
YEH | HSIEN-LIANG
YEO | ALOYSIUS | KEE HUAT
YEUNG | ABEL
YEUNG | ANDREW
YIM | CHI | KIN
YOKOHATA | SHINTARO
YOO | ANDREW
YOUNG | JOANN | CHU
YOUNG | RALPH | FREDERICK
YU | ADAM | CHIA HSIANG
YU | CHI | CHEN
YU | DAVID | TSU
YU | MEI | HUA
YU | ROBERT | W
YUCESAN | ENVER
ZASLONA | SIMON | JONATHON
ZEEGERS | ISABELLE | NICOLE ALEXANDRINE
ZELLER-GRIEDER | EVELYN | JUDITH
ZHANG | NING
ZIMMERMANN | SANDRA | GIOVANNA
ZINGG | EDWARD | THOMAS
ZONDLER | ELLEN
ZUBAIDA | BRIGHTY | SHASHOU
ZWICKY | ALFRED
ZWICKY | CAROLINE | SONIA
ZWICKY | MYRIAM | LUCY
ZYLAN | GARY | ALLEN

Dated: April 28, 2015.
Frances Fay,
Manager Team 103, Examinations Operations—Philadelphia Compliance Services.

[FR Doc. 2015-11213 Filed 5-7-15; 8:45 am]

BILLING CODE 4830-01-P